COMMITTEE FOR PURCHASE FROM PEOPLE WHO ARE BLIND OR SEVERELY DISABLED

Procurement List; Additions and Deletion

AGENCY: Committee for Purchase From People Who Are Blind or Severely Disabled.

ACTION: Additions to and Deletion from the Procurement List.

SUMMARY: This action adds to the Procurement List a product and services to be furnished by nonprofit agencies employing persons who are blind or have other severe disabilities, and deletes from the Procurement List a product previously furnished by such agencies.

DATES: May 4, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On January 25 and February 8, 2008, the Committee for Purchase From People Who Are Blind or Severely Disabled published notice (73 FR 4519; 7521) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Paper, Xerographic (Chlorine Free)

NSN: 7530-01-503-8441—8½″ x 11″

NPA: Louisiana Association for the Blind, Shreveport, LA

Coverage: The remaining General Services Administration (Burlington, NJ depot) requirement. A-List for the total Government requirements as specified by the General Services Administration

Contracting Activity: General Services Administration, Office Supplies & Paper Products Acquisition Ctr, New York, NY

Services

Service Type/Location: Custodial Services, Air National Guard, 1401 Robert B. Miller, Jr. Drive, Garden City, GA

NPA: Trace, Inc., Boise, ID

Contracting Activity: Air National Guard, 165th Air Wing, Garden City, GA

Service Type/Location: Laundry Services, Air National Guard-Sioux City, 185th Air Refueling Wing, 2920 Headquarters Avenue, Sioux City, IA

NPA: Genesis Development, Jefferson, IA

Contracting Activity: Iowa Air National Guard, Sioux City, IA

Deletion

On February 8, 2008, the Committee for Purchase From People Who Are Blind or Severely Disabled published notice (73 FR 7521) of proposed deletions to the Procurement List.

After consideration of the relevant matter presented, the Committee has determined that the product listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Wrapper, Sterilization

NSN: 6530-00-197-9223

NSN: 6530-00-926-4902

NSN: 6530-00-926-4903

NSN: 6530-00-926-4904

NSN: 6530-00-926-4905

NSN: 6530-00-197-9283

NPA: Alabama Industries for the Blind, Talladega, AL

NPA: Blind Industries & Services of Maryland, Baltimore, MD

NPA: Mississippi Industries for the Blind, Jackson, MS

NSN: 6530-00-197-9228

NPA: Alabama Industries for the Blind, Talladega, AL

NPA: Arizona Industries for the Blind, Phoenix, AZ

NPA: Blind Industries & Services of Maryland, Baltimore, MD

NPA: Mississippi Industries for the Blind, Jackson, MS

Contracting Activity: Veterans Affairs National Acquisition Center, Hines, IL

NSN: 6530-01-036-0398

NPA: UNKNOWN

NSN: 6530-01-244-2776

NSN: 6530-01-244-9946

NSN: 6530-01-246-0156

NSN: 6530-01-246-1935

NSN: 6530-01-248-4813

NPA: Alabama Industries for the Blind, Talladega, AL

NPA: Arizona Industries for the Blind, Phoenix, AZ

NPA: Blind Industries & Services of Maryland, Baltimore, MD

NPA: Mississippi Industries for the Blind, Jackson, MS

Contracting Activity: Defense Supply Center Philadelphia, Philadelphia, PA

NSN: 6530-00-299-9603

NPA: Alabama Industries for the Blind, Talladega, AL

NPA: Arizona Industries for the Blind, Phoenix, AZ

NPA: Blind Industries & Services of Maryland, Baltimore, MD

NPA: Mississippi Industries for the Blind, Jackson, MS

Contracting Activity: Defense Supply Center Philadelphia, Philadelphia, PA

Contracting Activity: Veterans Affairs National Acquisition Center, Hines, IL

Kimberly M. Zeich,
Director, Program Operations.

[FR Doc. E8-7065 Filed 4-3-08; 8:45 am]

BILLING CODE 6353-01-P